DEPARTMENT OF STATE

[Public Notice 6710]

Notice of Meeting of the Cultural Property Advisory Committee

There will be a meeting of the Cultural Property Advisory Committee on Thursday, November 12, 2009, from approximately 9 a.m. to 5 p.m., and on Friday, November 13, from approximately 9 a.m. to 5 p.m. at the Department of State, Annex 5, 2200 C Street, NW., Washington, DC. During its meeting on November 12 the Committee will review a proposal to extend the Memorandum of Understanding Between the Government of the United States of America and the Government of the Republic of El Salvador Concerning the Imposition of Import Restrictions on Certain Categories of Archaeological Material from the Pre-Hispanic Cultures of the Republic of El Salvador (“MOU”). The Government of the Republic of El Salvador has notified the Government of the United States of America of its interest in extending the MOU.

The Committee's responsibilities are carried out in accordance with provisions of the Convention on Cultural Property Implementation Act (19 U.S.C. 2601, et seq.). The text of the Act and subject MOU, as well as related information, may be found at http://exchanges.state.gov/culprop. Portions of the meeting on November 12 will be closed pursuant to 5 U.S.C. 552b(c)(9)(B) and 19 U.S.C. 2605(h), the latter of which stipulates that “The provisions of the Federal Advisory Committee Act shall apply to the Cultural Property Advisory Committee except that the requirements of subsections (a) and (b) of section 10 and 11 of such Act (relating to open meetings, public notice, public participation, and public availability of documents) shall not apply to the Committee, whenever and to the extent it is determined by the President or his designee that the disclosure of matters involved in the Committee's proceedings would compromise the Government's negotiation objectives or bargaining positions on the negotiations of any agreement authorized by this title.” On November 12, the Committee will have an open session from approximately 10:30 a.m. to 12 noon, to receive oral public comment on the proposal to extend the MOU with El Salvador.

On November 13, the Committee will continue its interim review of the MOU with Italy and will have an open session from approximately 9:30 a.m. to 12 noon to receive oral public comment. An open session is not a statutory requirement, nor is the invitation for public oral or written comment. These steps are taken at the initiative of the Department of State. Persons wishing to attend either of these open sessions should notify the Cultural Heritage Center of the Department of State at (202) 632-6301 no later than November 4, 2009, 5 p.m. (EST) to arrange for admission. Seating is extremely limited. Requests for reasonable accommodation should also be made at that time; last minute requests will be difficult to fulfill.

Anyone wishing to make an oral presentation at either public session must request to be scheduled and must submit a written text of the oral comments by November 2, 2009, to allow time for distribution to Committee members prior to the meeting. Oral comments will be limited to allow time for questions from members of the Committee, and with respect to the proposed extension of the El Salvador MOU must specifically relate to the determinations under Section 303(a)(1) of the Convention on Cultural Property Implementation Act, 19 U.S.C. 2602, pursuant to which the Committee must make findings. This statute can be found at the Web site noted above.

With respect to comments on the interim review of the Memorandum of Understanding Between the Government of the United States of America and the Government of the Republic of Italy Concerning the Imposition of Import Restrictions on Archaeological Material Representing the Pre-Classical, Classical and Imperial Roman Periods of Italy, concluded on January 19, 2001, and extended in 2006, oral comments must be limited to Article II of this MOU.

The Committee also invites written comments and asks that they be submitted no later than November 2, 2009, to allow time for distribution to Committee members prior to the meeting.

All written materials, including the written texts of oral statements, may be faxed to (202) 632-6300. If more than three (3) pages, 20 duplicates of written materials must be sent by express mail to: Cultural Heritage Center, SA-5, Fifth Floor, Department of State, Washington, DC 20522-0505.

Dated: October 8, 2009.
Maura M. Pally,
Deputy Assistant Secretary, Bureau of Educational and Cultural Affairs, Department of State.

[FR Doc. E9-25324 Filed 10-20-09; 8:45 am]

BILLING CODE 4710-05-P